DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension without changes of its Uranium Data Program (UDP), OMB Control Number 1905-0160. The UDP consists of three surveys. Form EIA-851A “Domestic Uranium Production Report (Annual”)” collects annual data from the U.S. uranium industry on uranium milling and processing, uranium feed sources, uranium mining, employment, drilling, expenditures, and uranium reserves. Form EIA-851Q “Domestic Uranium Production Report (Quarterly)” collects monthly data on uranium production that is reported on a quarterly basis. Form EIA-858 “Uranium Marketing Annual Survey” collects annual data from the U.S. uranium market on uranium contracts and deliveries, inventories, enrichment services purchased, uranium in fuel assemblies, feed deliveries to enrichers, and unfilled market requirements for the current year and the following ten years.

DATES: Comments on this information collection must be received no later than June 5, 2025. Written comments and recommendations for the proposed information collection should be sent within 30 days of publication of this notice to www.reginfo.gov/public/do/PRAMain. Find this particular information collection by selecting “Currently under 30-day Review—Open for Public Comments” or by using the search function.

FOR FURTHER INFORMATION CONTACT: Kenneth Pick, EIA Clearance Officer, at (202) 586-5562. The form and instructions are available at https://www.eia.gov/survey/.

SUPPLEMENTARY INFORMATION:

This information collection request contains:

(1) OMB No.: 1905-0160;

(2) Information Collection Request Title: Uranium Data Program;

(3) Type of Request: Three-year extension without changes;

(4) Purpose: Uranium Data Program (UDP) collects data on domestic uranium supply and demand activities, including production, exploration and development, trade, purchases and sales available to the U.S. The users of these data include Congress, Executive Branch agencies, the nuclear and uranium industry, electric power industry, and the public. Form EIA-851A data is published in EIA's Domestic Uranium Production Report—Annual, at https://www.eia.gov/uranium/production/annual/. Form EIA-851Q data is published in EIA's Domestic Uranium Production Report—Quarterly at https://www.eia.gov/uranium/production/quarterly/. Form EIA-858 data is published in EIA's Uranium Marketing Annual Report at https://www.eia.gov/uranium/marketing/ and Domestic Uranium Production Report—Annual at https://www.eia.gov/uranium/production/annual/;

(5) Annual Estimated Number of Respondents: 99;

(6) Annual Estimated Number of Total Responses: 132;

(7) Annual Estimated Number of Burden Hours: 1775;

(8) Annual Estimated Reporting and Recordkeeping Cost Burden: EIA estimates that there are no capital and start-up costs associated with this data collection. The information is maintained during the normal course of business. The cost of the burden hours is estimated to be $168,607.25 (1,775 burden hours times $94.99 per hour). Other than the cost of burden hours, EIA estimates that there are no additional costs for generating, maintaining, and providing this information.

Statutory Authority: 15 U.S.C. 772(b), 42 U.S.C. 7101 et seq.

Signed in Washington, DC, on May 1, 2025.
Samson A. Adeshiyan,
Director, Office of Statistical Methods and Research, U.S. Energy Information Administration.

[FR Doc. 2025-07888 Filed 5-5-25; 8:45 am]

BILLING CODE 6450-01-P